DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, SAMHSA will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including leveraging automated data collection techniques or other forms of information technology.

Proposed Project: Request to publish the 60-Day Notices in the Federal Register to solicit public comment on information collection for the continued approval and updates for the Protection and Advocacy for Individuals with Mental Illness (PAIMI)—Revised Annual Program Performance Report (PPR)—OMB No. 0930-0169— DECISION.

SAMHSA is requesting approval from the Office of Management and Budget (OMB) for changes to the Annual PPR, PPR Instructions, and the ACR for the PAIMI program. The OMB clearance for the current 2022-2023 PPR, PPR Instructions, and ACR (0930-0169) will expire on 06/30/2023.

The protection and advocacy (P&A) systems were established under the Developmental Disabilities Act of 1975 [42 U.S.C. 15001 et seq., as amended in 2000]. The amendments of 2000 require the Secretary of Health and Human Services submit a biennial report on disabilities to the President, Congress, and the National Council on Disability. The Secretary's report is prepared by the Administration on Intellectual and Developmental Disabilities (AIDD), within the Administration on Community Living. The PPR, which includes an ACR, contains information from the PAIMI grantees on the types of activities and services they provided on behalf of PAIMI-eligible individuals. SAMHSA aggregates this information into a biennial summary report that AIDD includes in an appendix to the Secretary's biennial report on disabilities.

The PAIMI Act at 42 U.S.C. 10805(7) requires that each P&A system prepare and transmit a report to the Secretary HHS and to the head of its state mental health agency on January 1. This report describes the activities, accomplishments, and expenditures of the system during the most recently completed fiscal year, including a section prepared by the advisory council (the PAIMI Advisory Council or PAC) that describes the activities of the council and its independent assessment of the operations of the system.

The PAIMI Act at 42 U.S.C. 10801 et seq., authorized funds to the same protection and advocacy (P&A) systems created under the Developmental Disabilities Assistance and Bill of Rights Act of 1975, known as the DD Act (as amended in 2000, 42 U.S.C. 15001 et seq.]. The DD Act supports the Protection and Advocacy for Developmental Disabilities (PADD) Program administered by the Administration on Intellectual and Developmental Disabilities (AIDD) within the Administration on Community Living. AIDD is the lead federal P&A agency. The PAIMI Program supports the same governor-designated P&A systems established under the DD Act by providing legal-based individual and systemic advocacy services to individuals with significant (severe) mental illness (adults) and significant (severe) emotional impairment (children/youth) who are at risk for abuse, neglect and other rights violations while residing in a care or treatment facility.

In 2000, the PAIMI Act amendments created a 57th P&A system—the American Indian Consortium (the Navajo and Hopi Tribes in the Four Corners region of the Southwest). The Act, at 42 U.S.C. 10804(d), states that a P&A system may use its allotment to provide representation to individuals with mental illness, as defined by section 42 U.S.C. 10802 (4)(B)(iii), residing in the community, including their own home, only if the total allotment under this title for any fiscal year is $30 million or more, and, in such cases, an eligible P&A system must give priority to representing PAIMI-eligible individuals, as defined by 42 U.S.C. 10802(4)(A) and (B)(i).

The Children's Health Act of 2000 (CHA) also referenced the state P&A system authority to obtain information on incidents of seclusion, restraint, and related deaths [see, CHA, Part H at 42 U.S.C. 290ii-1]. PAIMI Program formula grants awarded by SAMHSA go directly to each of the 57 governor-designated P&A systems. These systems are located in each of the 50 states, the District of Columbia, the American Indian Consortium, American Samoa, Guam, the Commonwealth of the Northern Mariana Islands, the Commonwealth of Puerto Rico, and the U.S. Virgin Islands.

SAMHSA proposes the following revision to its annual PAIMI Program Performance Report (PPR), PPR Instructions, and ACR:

1. All questions related to Sex/Gender; added the following choices: “Transgender,” “Two-Spirit” for AI/AN, and “Other.”

2. All questions related to Age; added the clarification “would not disclose” to “Unknown.”

3. The choice “A/N I” (Abuse/Neglect Investigation)was added to the “Intervention Strategies” section for clarification.

4. In the “Death Investigation Activities” section, the following was added for clarification: “if zero means the P&A did not receive any death reports from CMS for investigation, please note this in the Footnotes.”

5. In the “Interventions on behalf of groups of PAIMI-eligible Individuals” section, “Group Advocacy,” the term “non-litigation” was corrected.

6. Tables and instructions were added to the “Budget” section, for clarification.

The current report formats will be effective for the FY 2023 PPR reports due on January 1, 2024.

Estimates of Annualized Hour Burden

The estimated annualized burden for the uniform application will increase to 33,493 hours to account for recording of the additional supplemental funding efforts (approximately 2 hours per state agency).

The annual burden estimate is as follows:

| Number of respondents | Number of responses per respondent | Hours per response | Total hour burden
Program Performance Report | 57 | 1 | 20 | 1,140
Advisory Council Report | 57 | 1 | 10 | 570
Total | 57 |  |  | 1,710

Send comments to Carlos Graham, SAMHSA Reports Clearance Officer, 5600 Fisher Lane, Room 15E57A, Rockville, MD 20852 OR email him a copy at carlos.graham@samhsa.hhs.gov. Written comments should be received by March 13, 2023.

Alicia Broadus,
Public Health Advisor.

[FR Doc. 2023-00190 Filed 1-9-23; 8:45 am]

BILLING CODE 4162-20-P